DEPARTMENT OF HEALTH AND HUMAN SERVICES

National Institutes of Health

Center for Scientific Review; Amended Notice of Meeting

Notice is hereby given of a change in the meeting of the Neural Basis of Psychopathology, Addictions and Sleep Disorders Study Section, June 21, 2006, 6 p.m. to June 23, 2006, 5 p.m., Embassy Suites Hotel, 4300 Military Road, Washington, DC 20015, which was published in the Federal Register on May 11, 2006, 71 FR 27505-27507.

The meeting will be held June 22, 2006, 8 a.m. to June 23, 2006, 5 p.m. The meeting location remains the same. The meeting is closed to the public.

Dated: May 25, 2006.
Anna Snouffer,
Acting Director, Office of Federal Advisory Committee Policy.

[FR Doc. 06-5066 Filed 6-1-06; 8:45 am]

BILLING CODE 4140-01-M